DEPARTMENT OF ENERGY

Federal Energy Regulatory Commission

[Docket No. PF15-1-000]

PennEast Pipeline Company, LLC; Notice of Revised Public Scoping Meetings for the Penneast Pipeline Project

On January 13, 2015, the Federal Energy Regulatory Commission (FERC or Commission) issued a Notice of Intent to Prepare an Environmental Impact Statement for the Planned PennEast Pipeline Project, Requests for Comments on Environmental Issues, and Notice of Public Scoping Meetings (NOI). On January 23 and 26, 2015, we issued notices to postpone the January 27 and 28, 2015 public scoping meetings listed in the NOI. The revised dates for the scoping meetings are:

When: Wednesday, February 25, 2015.

Time: 6 p.m.

Where: West Trenton Ballroom, 40 W. Upper Ferry Road, West Trenton, New Jersey 08628.

When: Thursday, February 26, 2015.

Time: 6 p.m.

Where: The Grand Colonial, 86 Route 173 West, Hampton, New Jersey 08827.

These public meetings will be posted on the Commission calendar located at www.ferc.gov/EventCalendar/EventsList.aspx along with other related information. Additional information about the project is available from the Commission's Office of External Affairs, at (866) 208-FERC, or on the FERC Web site at www.ferc.gov using the “eLibrary” link and the project docket number (i.e., PF15-1).

Dated: February 5, 2015.
Kimberly D. Bose,
Secretary.

[FR Doc. 2015-02932 Filed 2-11-15; 8:45 am]

BILLING CODE 6717-01-P